DEPARTMENT OF ENERGY

Federal Energy Regulatory Commission

[Docket No. TS12-1-000]

Kansas City, KS, Board of Public Utilities; Notice of Petition for Waiver

Take notice that on November 15, 2011, The Board of Public Utilities of Kansas City, Kansas (KCBPU) tendered for filing a request for waiver of the requirements to establish an open access same-time information system (OASIS) and adhere to the Commission's Standard of Conduct for Transmission Providers established in Order Nos. 889 ¹, 2004 ² and 717 ³ as such requirements apply to municipal electric system through reciprocity obligation in Section 6 of the Commission's pro forma Open Access Transmission Tariff ⁴, as adopted and implemented by public utilities.

¹ Open Access Same-Time Information System and Standards of Conduct, Order No. 889, FERC Stats. & Regs. ¶ 31,035 (1996), order on reh'g, Order No. 889-A, FERC Stats. & Regs. ¶ 31,049 (1997), reh'g denied, Order No. 889-B, 81 FERC ¶ 61,253 (1997), aff'd in relevant part sub nom. Transmission Access Policy Study Group v. FERC, 225 F.3d 667 (DC Cir. 2000).

² Standards of Conduct for Transmission Providers, Order No. 2004, FERC Stats. & Regs. ¶ 31,155 (2003), order on reh'g, Order No. 2004-A, FERC Stats. & Regs. ¶ 31,161 (2004), order on reh'g, Order No. 2004-B, FERC Stats. & Regs. ¶ 31,166 (2004), order on reh'g, Order No. 2004-C, FERC Stats. & Regs. ¶ 31,172 (2004), order on reh'g, Order No. 2004-D, 110 FERC ¶ 61,320 (2005), vacated and remanded as it applies to natural gas pipelines sub nom. National Fuel Gas Supply Corp. v. FERC, 468 F.3d 831 (DC Cir. 2006).

³ Standards of Conduct for Transmission Providers, Order No. 717, FERC Stats. & Regs. ¶ 31,280 (2008), order on reh'g, Order No. 717-A, 129 FERC ¶ 61,043 (2009), order on reh'g, Order No. 717-B, 129 FERC ¶ 61,123 (2009), order on reh'g, Order No. 717-C, 131 FERC ¶ 61,045 (2010).

⁴ Preventing Undue Discrimination and Preference in Transmission Service, Order No. 890, FERC Stats. & Regs. ¶ 31,241 (2007), order on reh'g, Order No. 890-A, FERC Stats. & Regs. ¶ 31,261 (2007), order on reh'g, Order No. 890-B, 123 FERC ¶ 61,299, Appendix B at Original Sheet No. 33 (2008), order on reh'g, Order No. 890-C, 126 FERC ¶ 61,228 (2009).

Any person desiring to intervene or to protest in the above referenced proceeding must file in accordance with Rules 211 and 214 of the Commission's Rules of Practice and Procedure (18 CFR 385.211 and 385.214) on or before 5 p.m. Eastern time on the specified comment date. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filing in the above proceeding are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov. or call (866) 208-3676 (toll free). For TTY, call (202) 502-8659.

Comment Date: 5 p.m. Eastern Time on Friday, December 30, 2011.

Dated: December 21, 2011.
Kimberly D. Bose,
Secretary.

[FR Doc. 2011-33306 Filed 12-28-11; 8:45 am]

BILLING CODE 6717-01-P